POSTAL SERVICE

Sunshine Act Meeting

Times and Dates: 1 p.m., Monday, May 6, 2002; 8:30 a.m., Tuesday, May 7, 2002.

Place: Washington, D.C., at U.S. Postal Service Headquarter, 475 L'Enfant Plaza, S.W., in the Benjamin Franklin Room.

Status: May 6-1 p.m. (Closed); 7-8:30 a.m. (Open)

Matters To be Considered:

Monday, May 6-1 p.m. (Closed)

1. Financial Performance.

2. Capital Investment—Singulate Scan, Induction Units.

3. Strategic Planning.

4. Personnel Matters and Compensation Issues.

Tuesday, May 7-8:30 a.m. (Open)

1. Minutes of the Previous Meeting, April 8-9, 2002.

2. Remarks of the Postmaster General and CEO.

3. Audit and Finance Committee Charter.

4. Advanced Computing Environment.

5. Capital Investment.

a. PostalOne! Phase Two, Business Customer Support Systems (BCSS).

6. Tentative Agenda for the June 3-4, 2002, meeting in Washington, D.C.

Contact Person for More Information: William T. Johnstone, Secretary of the Board, U.S. Postal Service, 475 L'Enfant Plaza, SW., Washington, DC 20260-1000. Telephone (202) 268-4800.

William T. Johnstone,
Secretary.

[FR Doc. 02-10224 Filed 4-22-02; 3:16 pm]

BILLING CODE 7710-12-M